DEPARTMENT OF AGRICULTURE

Forest Service

Flathead National Forest, Tally Lake Ranger District, Flathead County, State of Montana; Logan Creek Ecosystem Restoration Project Environmental Impact Statement

AGENCY: Forest Service, USDA.

ACTION: Notice of intent to prepare an environmental impact statement.

SUMMARY: The Forest Service will prepare an environmental impact statement (EIS) for a proposal to harvest timber; reclaim, rehabilitate, and construct roads; change road and trail access; place large logs in streams; construct large pool habitat; re-vegetate habitat; and burn brushfields or forest understory trees within the Logan Creek watershed. The area is located northwest of Whitefish, Montana and southwest of Olney, Montana.

The Forest Service is seeking further information and comments from federal, state, and local agencies and other individuals or organizations who may be interested in or affected by the proposed actions. These comments will be used to prepare the draft and final EIS.

DATES: Comments concerning the scope of the analysis must be received by September 12, 2002. The draft EIS is expected to be filed with the Environmental Protection Agency and made available for public review in December, 2002. The comment period on the draft EIS will end 45 days from the date the Environmental Protection Agency publishes the notice of availability in the Federal Register. No date has yet been determined for filing the final EIS.

ADDRESSES: You may request to be placed on the project mailing list or direct questions, comments, and suggestions about the proposed action and EIS to Bryan Donner, EIS Team Leader, or Jane Kollmeyer, District Ranger, at Tally Lake Ranger District, 1335 Highway 93 West, Whitefish, MT 59937. Phone: (406) 863-5400.

FOR FURTHER INFORMATION CONTACT: Bryan Donner, EIS Team Leader, or Jane Kollmeyer, District Ranger, at Tally Lake Ranger District, 1335 Highway 93 West, Whitefish, MT 59937. Phone: (406) 863-5400.

SUPPLEMENTARY INFORMATION:

Affected Area

The Logan Creek assessment area, west of Whitefish, Montana, encompasses approximately 61,200 acres of which the Forest Service administers 48,300 acres. Private land accounts for 6047 acres, with the remainder evenly split between corporate (3553 acres) and state lands (3300 acres). Elevation ranges from 3100 feet at Round Meadow to 6300 feet at Ashley Mountain. Numerous recreational activities exist in this area and logging has been, and continues to be, active in the drainage. There are no existing wilderness or inventoried roadless areas within the watershed boundary.

The watershed assessment area includes eight major streams in addition to Logan Creek. The drainage supports several species of native and non-native fish as well as many amphibians and reptiles. Temperate coniferous forests dominate the landscape and provide habitat for terrestrial wildlife that includes several threatened, endangered, and sensitive species.

Purpose and Need for Action

A variety of current conditions in the watershed, identified from a recent Logan Creek watershed analysis, have generated a purpose and need for management action in this area. High fuel accumulations threatening public and private lands; undesirable vegetation composition, density, cover types, and structure classes; high tree mortality due to a Douglas-fir bark beetle epidemic; altered wildlife habitat; less than optimal fish habitat; and local economic issues have created a need for this project.

The purpose of this proposal is to reduce hazardous fuels to varying degrees across the landscape; to enhance fire suppression control efforts by reducing fire intensity; restore or maintain a historical pattern of vegetation cover and diversity; reduce the vulnerability of the forest to large scale, dramatic disturbance such as insects, disease, and unwanted fire; provide an ecosystem that sustains habitat for wildlife; improve water quality and reduce sediment delivery; improve aquatic habitat to enhance the recreational fishery; and meet the social and economic needs of the local communities.

Proposed Action

The proposed action to reduce accumulated fuels, manage insect infested stands, and improve fisheries and wildlife habitat are being considered together because they represent either connected or cumulative actions as defined by the Council on Environmental Quality (40 CFR 1508.25).

The proposed action describes 10,057 acres of vegetation treatments and fuel reductions that combine varying intensities of timber harvest, pre-commercial thinning, and prescribed burns. Sixteen miles of road reclamation, 5.0 miles of temporary roads, 4.4 miles of new specified road construction, and 143.9 miles of road rehabilitation (drainage improvements) would be included in this project. An additional 7.5 miles of road are proposed for access change. Large woody debris would be placed in 3.8 miles of streams, distributed between 12 different streams, and 5 large pools would be constructed on lower Logan Creek to improve fish habitat. Shrubs would be planted (500 acres) and slashed (25 acres) to improve ungulate browse. Harvested areas would also be re-vegetated with trees and shrubs to improve wildlife habitat.

Responsible Official

Cathy Barbouletos, Forest Supervisor, Flathead National Forest, 1935 3rd Ave. East, Kalispell, MT 59901

Nature of Decision To Be Made

The responsible official will decide if the Forest Service should implement the proposed action or any action to meet the purpose and need or to defer any action at this time within the Logan Creek watershed.

Scoping Process

Public and internal scoping on this project has consisted of one open house; one mailing to federal, state and local agencies, organizations, and individuals; personal conversations between interdisciplinary team members and the public, and news media releases. A public field trip is planned for October 23, 2002.

Preliminary Issues

Based on public and internal scoping, the following main issues emerged:

1. Effects of timber harvest, prescribed burning and road and trail access on wildlife security

2. Effects of vegetation treatment on fragmentation of existing and future old growth habitat

3. Effects of vegetation treatments on the size, shape, continuity, and edge effect on some late seral patches of trees

4. Effects of proposed action on forest connectivity that serves as a link for wildlife movement between important habitat such as riparian forests and ridgelines

5. Effects of timber harvest and road building on water quality, water yields, fish habitat, and stream channel stabilization

6. Effects of road reclamation on future management opportunities, fire suppression, and public recreation opportunities

Comment Requested

This notice of intent is a major component of the scoping process and guides the development of the EIS. A draft EIS will be prepared and open for public comment for 45 days from the date that the Environmental Protection Agency publishes the notice of availability in the Federal Register. Comments received will be analyzed, considered, and responded to by the Forest Service in the final EIS.

Early Notice of Importance of Public Participation in Subsequent Environmental Review

The Forest Service believes, at this early stage, it is important to give reviewers notice of several court rulings related to public participation in the environmental review process. First, reviewers of draft EIS must structure their participation in the environmental review of the proposal so that it is meaningful and alerts an agency to the reviewer's position and contentions. Vermont Yankee Nuclear Power Corp. v. NRDC, 435 U.S. 519, 553 (1978). Also, environmental objections that could be raised at the draft EIS stage, but that are not raised until after completion of the final EIS, may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that substantive comments and objections are made available to the Forest Service at a time when it can meaningfully consider them and respond to them in the final EIS.

To assist the Forest Service in identifying and considering issues and concerns on the proposed action, comments on the draft EIS should be as specific as possible. It is also helpful if comments refer to specific pages or chapters of the draft EIS. Comments may also address the adequacy of the draft EIS or the merits of the alternatives formulated and discussed in the statement. Reviewers may wish to refer to the Council on Environmental Quality Regulations for implementing the procedural provisions of the National Environmental Policy Act (NEPA) at 40 CFR 1503.3 in addressing these points.

Comments received, including the names and addresses of those who comment, will be considered part of the public record on this proposal and will be available for public inspection (Authority: NEPA 40 CFR 1501.7, 1508.22; Forest Service Handbook 1909.15, Section 21). The responsible official for the preparation of the EIS will make a decision regarding this proposal by considering the comments and responses, environmental consequences discussed in the final EIS, and applicable laws, regulations, and policies. The rationale for the decision will be documented in a Record of Decision. That decision will be subject to appeal under applicable Forest Service regulations.

Dated: August 5, 2002.
Earl Applekamp,
Acting Forest Supervisor.

[FR Doc. 02-20297 Filed 8-9-02; 8:45 am]

BILLING CODE 3410-11-P